DEPARTMENT OF HEALTH AND HUMAN SERVICES

National Institutes of Health

Submission for OMB Review; Comment Request; Customer/Partner Satisfaction Survey of the NIDCD Minority and Disability Supplement Program

SUMMARY: Under the provisions of Section 3507 (a)(1)(D) of the Paperwork Reduction Act of 1995, the National Institute on Deafness and Other Communication Disorders (NIDCD), the National Institutes of Health (NIH), has submitted to the Office of Management and Budget (OMB) a request for review and approval of the information collection listed below. The proposed information collection was previously published in the Federal Register on January 26, 2001, page 7919-7920, and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: Customer/Partner Satisfaction Survey of the NIDCD Minority and Disability Supplement Program. Type of Information Collection Request: New. Need and Use of Information Collection: The NIDCD was established to support biomedical and behavioral research and research training in hearing, smell, balance, taste, voice, speech and language. Although minorities and people with disabilities will soon dominate the work force, these groups are underrepresented in the professional fields of science and health. To encourage members of these groups to pursue careers in these fields, NIDCD provides opportunities for extramural grant recipients to mentor promising candidates. The proposed survey will collect information from participants in the Minority and Disability Supplement Program and will yield information about satisfaction of participants with the program and how participation may have lead to the pursuit of a career in the health field. Frequency of Response: One. Affected Public: Individuals. Type of Respondent: Minority individuals and individuals with disabilities who have previously participated in the Supplement Program. The annual reporting burden is as follows: Estimated Number of Respondents: 200. Estimated Number of Responses per Respondent: One. Average Burden Hours Per Response: 0.5; and Estimated Total Annual Burden Hours Requested: 100. The annualized cost to respondents is estimated at: $150. There are no Capital Costs to report. There are no Operating or Maintenance Costs to report.

Type of respondents | Estimated number of respondents | Estimated number of responses per respondent | Average burden hours per response | Estimated total annual burden hours requested
Survey of Participant | 200 | 1 | 0.5 | 100
Total | 200 |  |  | 100

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB

Written comments and/or suggestions regarding the item(s) contained in this notice, especially regarding the estimated public burden and associated response time, should be directed to the Office of Management and Budget, Office of Regulatory Affairs, New Executive Office Building, Room 10235, Washington, D.C. 20503, Attention: Desk Officer for NIH. To request more information on the proposed project or to obtain a copy of the data collection plans and instruments, contact: Judith A. Cooper, Ph.D., Chief, Scientific Programs Branch, NIDCD, NIH, 6120 Executive Blvd., EPS 400-C, MSC 7180, Bethesda, MD 20892, or call non toll-free number (301) 496-5061, or E-mail your request, including your address to: judith_cooper@nih.gov

Comments Due Date

Comments regarding this information collection are best assured of having their full effect if received within 30-days of the date of this publication.

Dated: April 26, 2001.
David Kerr,
Executive Officer, NIDCD.

[FR Doc. 01-12912 Filed 5-22-01; 8:45 am]

BILLING CODE 4140-01-M